NATIONAL ENDOWMENT FOR THE ARTS

Privacy Act of 1974: Republication of Notice of Systems of Records

AGENCY: National Endowment for the Arts.

ACTION: Notice of republication of systems of records, proposed systems of records, and new routine uses.

SUMMARY: The National Endowment for the Arts (Endowment) is publishing a notice of its systems of records with descriptions of the systems and the ways in which they are maintained, as required by the Privacy Act of 1974. This notice reflects administrative changes that have been made at the Endowment since the last publication of a notice of its systems of records. This notice also will enable individuals who wish to access information maintained in Endowment systems to make accurate and specific requests for such information.

DATES: In accordance with 5 U.S.C. 552a(r), on June 19, 2008, the National Endowment for the Arts filed a report as to the changes proposed in this notice with the Committee on Oversight and Government Reform of the House of Representatives; the Senate Committee on Homeland Security and Governmental Affairs; and the Administrator, Office of Information and Regulatory Affairs, Office of Management and Budget (OMB). The deadline to submit comments on the Endowment's proposed changes will be 30 days from the date the report is submitted to Congress and the OMB.

ADDRESSES: Deputy Chairman for Management & Budget; National Endowment for the Arts; 400 7th Street SW, Washington, DC 20506; telefax at (202) 682-5798 or by electronic mail at eilersa@arts.gov.

FOR FURTHER INFORMATION CONTACT: Ann Eilers, Deputy Chairman for Management & Budget, (202) 682-5534.

SUPPLEMENTARY INFORMATION: In accordance with 5 U.S.C. 552a(e)(4), the Endowment is today republishing a notice of the existence and character of its systems of records in order to make available in one place in the Federal Register the most up-to-date information regarding these systems. This republication has become necessary to reflect administrative changes, such as agency move, agency restructuring and the increased use of electronic technology, that have been made at the Endowment since the last publication of a notice of its systems of records.

Statement of General Routine Uses

The following general routine uses are incorporated by this reference into each system of records set forth herein, unless specifically limited in the system description.

1. A record may be disclosed as a routine use to a Member of Congress or his or her staff, when the Member of Congress or his or her staff requests the information on behalf of and at the request of the individual who is the subject of the record.

2. A record may be disclosed as a routine use to designated officers and employees of other agencies and departments of the Federal government having an interest in the subject individual for employment purposes (including the hiring or retention of any employee; the issuance of a security clearance; the letting of a contract; or the issuance of a license, grant, or other benefit by the requesting agency) to the extent that the information is relevant and necessary to the requesting agency's decision on the matter involved.

3. In the event that a record in a system of records maintained by the Endowment indicates, either by itself or in combination with other information in the Endowment's possession, a violation or potential violation of the law (whether civil, criminal, or regulatory in nature, and whether arising by statute or by regulation, rule, or order issued pursuant thereto), that record may be referred, as a routine use, to the appropriate agency, whether Federal, state, local, or foreign, charged with the responsibility of investigating or prosecuting such violation, or charged with enforcing or implementing the statute, rule, regulation, or order issued pursuant thereto. Such referral shall be deemed to authorize: (1) Any and all appropriate and necessary uses of such records in a court of law or before an administrative board or hearing; and (2) Such other interagency referrals as may be necessary to carry out the receiving agencies' assigned law enforcement duties.

4. The names, Social Security numbers, home addresses, dates of birth, dates of hire, quarterly earnings, employer identifying information, and state of hire of employees may be disclosed as a routine use to the Office of Child Support Enforcement, Administration for Children and Families, Department of Health and Human Services, as follows:

(a) For use in the Federal Parent Locator System (FPLS) and the Federal Tax Offset System for the purpose of locating individuals to establish paternity, establishing and modifying orders of child support, identifying sources of income, and for other child support enforcement actions as required by the Personal Responsibility and Work Opportunity Reconciliation Act of 1996 (Pub. L. 104-193);

(b) For release to the Social Security Administration for the purpose of verifying Social Security numbers in connection with the operation of the FPLS; and

(c) For release to the U.S. Department of the Treasury (Treasury) for the purpose of payroll, savings bonds, and other deductions; administering the Earned Income Tax Credit Program (Section 32, Internal Revenue Code of 1986); and verifying a claim with respect to employment on a tax return, as required by the Personal Responsibility and Work Opportunity Reconciliation Act of 1996 (Pub. L. 104-193).

5. A record may be disclosed as a routine use in the course of presenting evidence to a court, magistrate, or administrative tribunal of appropriate jurisdiction, and such disclosure may include disclosures to opposing counsel in the course of settlement negotiations.

6. Information from any system of records may be used as a data source for management information, for the production of summary descriptive statistics and analytical studies in support of the function for which the records are collected and maintained, or for related personnel management functions or manpower studies. Information may also be disclosed to respond to general requests for statistical information (without personal identification of individuals) under the Freedom of Information Act.

7. A record may be disclosed as a routine use to a contractor, expert, or consultant of the Endowment (or an office within the Endowment) when the purpose of the release is to perform a survey, audit, or other review of the Endowment's procedures and operations.

8. A record from any system of records may be disclosed as a routine use to the National Archives and Records Administration in records management inspections conducted under authority of 44 U.S.C. 2904 and 2906.

9. A record may be disclosed to a contractor, grantee, or other recipient of Federal funds when the record to be released reflects serious inadequacies with the recipient's personnel, and disclosure of the record is for the purpose of permitting the recipient to effect corrective action in the government's best interests.

10. A record may be disclosed to a contractor, grantee, or other recipient of Federal funds when the recipient has incurred an indebtedness to the government through its receipt of government funds, and release of the record is for the purpose of allowing the debtor to effect a collection against a third party.

11. Information in a system of records may be disclosed as a routine use to the Treasury; other Federal agencies; “consumer reporting agencies” (as defined in the Fair Credit Reporting Act, 15 U.S.C. 168la(f), or the Federal Claims Collection Act of 1966, 31 U.S.C. 370(a)(3); or private collection contractors for the purpose of collecting a debt owed to the Federal government as provided in the regulations promulgated by the Endowment and published at 45 CFR 1150.

12. To appropriate agencies, entities, and persons when (1) the Endowment suspects or has confirmed that the security or confidentiality of information in the system of record has been compromised; (2) the Endowment has determined that as a result of the suspected or confirmed compromise there is a risk of harm to economic or property interests, identity theft or fraud, or harm to the security or integrity of this system or other systems or programs (whether maintained by the Endowment or another agency or entity) that rely upon the compromised information; and (3) the disclosure made to such agencies, entities, and persons is reasonably necessary to assist in connection with the Endowment's efforts to respond to the suspected or confirmed compromise and prevent, minimize, or remedy such harm.

Table of Contents

This document gives notice that the following Endowment systems of records are in effect:

NEA-1 Panelist, Electronic Grants Management System (eGMS) replaced Automated Panel Bank System (APBS)

NEA-2 Panelists, Paper Files

NEA-3 National Council on the Arts, Member Information

NEA-4 Grants and Cooperative Agreements: Electronic Grants Management System (eGMS)

NEA-5 Grants, Paper Files

NEA-6 Contracts

NEA-7 Payroll/Personnel System

NEA-8 Government Purchasing and Card Holders

NEA-9 Financial Management Information System (FMIS)

NEA-10 Finance Subsidiary Tracking Systems

NEA-11 Finance, Paper File

NEA-12 Equal Employment Opportunity Complaint Case Files

NEA-13 Civil Rights Complaint Case Files

NEA-14 Office of the Inspector General Investigative Case Files

NEA-15 Senate Nomination Files—National Council on the Arts

NEA-16 Jazz Masters Recipients

NEA-17 National Heritage Fellowship Recipients

NEA-18 Literature Fellowship Recipients

SYSTEM NAME AND NUMBER:

Panelists Electronic Grants Management System (eGMS)/NEA-1.

SYSTEM CLASSIFICATION:

Sensitive.

SYSTEM LOCATION:

Authorized National Endowment for the Arts (NEA) staff may access National Endowment for the Humanities (NEH), electronic grant management system via online web portal. 400 7th Street SW, Washington, DC 20506. NEH provides these services under System of Record Notice NEH-1.

SYSTEM MANAGER(S):

Chief Information Officer; National Endowment for the Humanities; bbobley@neh.gov.

AUTHORITY FOR MAINTENANCE OF THE SYSTEM:

National Foundation on the Arts and the Humanities Act of 1965, as amended (20 U.S.C. 951 et seq.).

PURPOSE(S) OF THE SYSTEM:

To provide a central repository for information about art experts who could be or have been called upon to serve on application review panels and make recommendations on grant awards.

CATEGORIES OF INDIVIDUALS COVERED BY THE SYSTEM:

Individuals whom the Endowment may ask or has asked to serve on application review panels.

CATEGORIES OF RECORDS IN THE SYSTEM:

Name, address, telephone number, Social Security number, and other data concerning potential and actual panelists, including information about areas of artistic expertise and prior panel service.

RECORD SOURCE CATEGORIES:

Data in this system is obtained from individuals covered by the system, as well as from Endowment employees.

ROUTINE USES OF RECORDS MAINTAINED IN THE SYSTEM, INCLUDING CATEGORIES OF USERS AND THE PURPOSES OF SUCH USES:

Data in this system is used for identification of panelists and their activities in this capacity. See also the list of General Routine Uses contained in the Preliminary Statement.

POLICIES AND PRACTICES FOR STORAGE OF RECORDS:

Records in this system are maintained in an electronic database.

POLICIES AND PRACTICES FOR RETRIEVAL OF RECORDS:

Records in this system are retrieved by name.

POLICIES AND PRACTICES FOR RETENTION AND DISPOSAL OF RECORDS:

Records in this system are maintained and updated on a continuing basis, as new information is received by the National Endowment for the Arts staff. Endowment staff will periodically request updated information from individuals who already have a People record in eGMS. Endowment staff will also periodically purge the eGMS People records pertaining to individuals who have been in the eGMS for three to five years, but who have not served on a panel.

ADMINISTRATIVE, TECHNICAL, AND PHYSICAL SAFEGUARDS:

This system is maintained in a locked computer room that can be accessed only by authorized employees of the Endowment or the National Endowment for the Humanities. Access to records in this system is further controlled by password, with different levels of modification rights assigned to individuals and offices at the Endowment based on their specific job functions.

RECORD ACCESS PROCEDURES:

See 45 CFR part 1159.

CONTESTING RECORD PROCEDURES:

See 45 CFR part 1159.

NOTIFICATION PROCEDURES:

See 45 CFR part 1159.

EXEMPTIONS PROMULGATED FOR THE SYSTEM:

None.

HISTORY:

Panelists Electronic Grants Management System (eGMS) replaces the panelists Automated Panel Bank System (APBS) that was retired with the implementation of eGMS.

System Location change 1100 Pennsylvania Avenue NW, Washington, DC 20506.

SYSTEM NAME AND NUMBER:

Panelists, Paper Files/NEA-2.

SYSTEM CLASSIFICATION:

Sensitive.

SYSTEM LOCATION:

National Endowment for the Arts, 400 7th Street SW, Washington, DC 20506.

SYSTEM MANAGER(S):

Director of Guidelines and Panel Operations: miller@arts.gov.

AUTHORITY FOR MAINTENANCE OF THE SYSTEM:

National Foundation on the Arts and the Humanities Act of 1965, as amended (20 U.S.C. 951 et seq.).

PURPOSE(s) OF THE SYSTEM:

Historical information about actual panelists that predates the electronic capability of eGMS.

CATEGORIES OF INDIVIDUALS COVERED BY THE SYSTEM:

Individuals whom the Endowment may ask or has asked to serve on application review panels.

CATEGORIES OF RECORDS IN THE SYSTEM:

Historical information about actual panelists. This system includes materials such as resumes and panelist profile forms.

RECORD SOURCE CATEGORIES:

Data in this system is obtained from individuals covered by the system, as well as from Endowment employees and other individuals nominating potential panelists.

ROUTINE USES OF RECORDS MAINTAINED IN THE SYSTEM, INCLUDING CATEGORIES OF USERS AND THE PURPOSES OF SUCH USES:

These are historical records that are required under the Federal Advisory Committee Act. See also the list of General Routine Uses contained in the Preliminary Statement.

POLICIES AND PRACTICES FOR STORAGE OF RECORD:

Records in this system are maintained in filing cabinets.

POLICIES AND PRACTICES FOR RETRIEVAL OF RECORDS:

Records in this system are retrieved by name.

POLICIES AND PRACTICES FOR RETENTION AND DISPOSAL OF RECORDS:

The Office of Guidelines and Panel Operations maintains historical paper files that are static due to the new electronic capability of the eGMS. These are historical records that are required under the Federal Advisory Committee Act.

Discipline offices may also maintain paper files about individuals who have served on panels for their divisions. The Endowment's Finance Office maintains copies of panelist contracts. Each Discipline office destroys its panelist contracts after the conclusion of the panel.

ADMINISTRATIVE, TECHNICAL, AND PHYSICAL SAFEGUARDS:

Cabinets containing the records in this system are kept locked.

RECORD ACCESS PROCEDURES:

See 45 CFR part 1159.

CONTESTING RECORD PROCEDURES:

See 45 CFR part 1159.

NOTIFICATION PROCEDURES:

See 45 CFR part 1159.

EXEMPTIONS PROMULGATED FOR THE SYSTEM:

None.

HISTORY:

Panelists, Paper Files System Location change 1100 Pennsylvania Avenue NW, Washington, DC 20506.

SYSTEM NAME AND NUMBER:

National Council on the Arts, Member Information/NEA-3.

SYSTEM CLASSIFICATION:

Sensitive.

SYSTEM LOCATION:

Office of Chief of Staff/Council Operations; 400 7th Street SW, Washington, DC 20506.

SYSTEM MANAGER(S):

Chief of Staff or Council Coordinator; jeffersonk@arts.gov.

AUTHORITY FOR MAINTENANCE OF THE SYSTEM:

National Foundation on the Arts and the Humanities Act of 1965, as amended (20 U.S.C. 951 et seq.).

PURPOSE(S) OF THE SYSTEM:

To provide a central repository for information about past and present members of the Council.

CATEGORIES OF INDIVIDUALS COVERED BY THE SYSTEM:

Past and present members of the National Council on the Arts.

CATEGORIES OF RECORDS IN THE SYSTEM:

Name, address, telephone number, Social Security number, and other information concerning past and present members of the Council, such as press clippings and correspondence.

RECORD SOURCE CATEGORIES:

Data in this system is obtained from individuals covered by the system, as well as from Endowment employees involved with the activities of the Council.

ROUTINE USES OF RECORDS MAINTAINED IN THE SYSTEM, INCLUDING CATEGORIES OF USERS AND THE PURPOSES OF SUCH USES:

Data in this system is used for identification of members of the Council and their activities in this capacity. See also the list of General Routine Uses contained in the Preliminary Statement.

POLICIES AND PRACTICES FOR STORAGE OF RECORDS:

Records in this system are maintained both electronically and in paper files kept in file cabinets.

POLICIES AND PRACTICIES FOR RETRIEVAL OF RECORDS:

Records in this system are retrieved by name.

POLICIES AND PRACTICIES FOR RETENTION AND DISPOSAL OF RECORDS:

Records in this system are maintained on an indefinite basis for reference purposes.

ADMINISTRAIVE, TECHNICAL, AND PHYSICAL SAFEGUARDS:

Rooms containing the paper records in this system are kept locked during non-working hours.

The electronic records in this system are maintained on the office hard drive which is password-protected.

RECORD ACCESS PROCEDURES:

See 45 CFR part 1159.

CONTESTING RECORD PROCEDURES:

See 45 CFR part 1159.

NOTIFICATION PROCEDURES:

See 45 CFR part 1159.

EXEMPTIONS PROMULGATED FOR THE SYSTEM:

None.

HISTORY:

National Council on the Arts, Member Information System Location change 1100 Pennsylvania Avenue NW, Washington, DC 20506.

SYSTEM NAME AND NUMBER:

Grants and Cooperative Agreements, Electronic Grants Management System (eGMS)/NEA-4.

SECURITY CLASSIFICATION:

Sensitive.

SYSTEM LOCATION:

Authorized National Endowment for the Arts (NEA) staff may access National Endowment for the Humanities (NEH) electronic grant management system via an online web portal. 400 7th Street SW, Washington, DC 20506. NEH provides these services under System of Record Notice NEH-1.

SYSTEM MANAGER(S):

Grants Officer (Director) and/or CIO of Information and Technology; National Endowment for the Humanities; jacobsn@arts.gov.

AUTHORITY FOR MAINTENANCE OF THE SYSTEM:

National Foundation on the Arts and the Humanities Act of 1965, as amended (20 U.S.C. 951 et seq.).

PURPOSE(S) OF THE SYSTEM:

To provide a central repository for information about grant and cooperative agreement applicants, recipients, and awards.

CATEGORIES OF INDIVIDUALS COVERED BY THE SYSTEM:

Individual and organizations who have applied to the National Endowment for the Arts (NEA) for financial assistance in the form of grants and cooperative agreements.

CATEGORIES OF RECORDS IN THE SYSTEM:

Name, address, telephone number, Social Security number, Taxpayer or Employee identification numbers (TIN, EIN) assigned by the IRS, Dun & Bradstreet numbers assigned by Dun & Bradstreet, application numbers assigned by the National Endowment for the Arts (NEA). National Standard and other agency established codes, and award action dates. Banking information is not maintained in the Electronic Grants Management System (eGMS).

Additional information concerning National Endowment for Arts (NEA) decisions to award grants and cooperative agreements, disburse funds, and close out awards. Materials include applications, award notifications and any approved amendments, payment requests, correspondence, and final reports.

RECORD SOURCE CATEGORIES:

Data in this system is obtained from individuals covered by the system, as well as from Endowment employees involved in the administration of grants.

ROUTINE USES OF RECORDS MAINTAINED IN THE SYSTEM, INCLUDING CATEGORIES OF USERS AND THE PURPOSES OF SUCH USES:

Data in this system may be used for general administration of the application review and award process, grants management, statistical research, and Congressional oversight and analysis of trends. See also the list of General Routine Uses contained in the preliminary Statement.

POLICIES AND PRACTICES FOR STORAGE OF RECORDS:

Records in this system are maintained in an electronic database.

POLICIES AND PRACTICES FOR RETRIEVAL OF RECORDS:

Records in this system are retrieved by name, application number, grant number, or constituent identification number.

POLICIES AND PRACTICES FOR RETENTION AND DISPOSAL OF RECORDS:

Records in this system are maintained on an indefinite basis for reference purposes; however, records will be closed out and not accessible for viewing after the required retention period (currently 7 years from the date of closeout).

ADMINISTRATIVE, TECHNICAL, AND PHYSICAL SAFEGUARDS:

This system is maintained in a locked computer room that can be accessed only by authorized employees of the Endowment and the National Endowment for the Humanities. Access to records in this system is controlled by PIV access, with different levels of modification rights assigned to individuals and offices at the NEA based on their specific job functions.

RECORD ACCESS PROCEDURES:

See 45 CFR part 1159.

CONTESTING RECORD PROCEDURES:

See 45 CFR part 1159.

NOTIFICATION PROCEDURES:

See 45 CFR part 1159.

EXEMPTIONS PROMULGATED FOR THE SYSTEM:

None.

HISTORY:

Grants and Cooperative Agreements, Electronic Grants Management System (eGMS) replaces Grants, Grants Management System (GMS); System Location changed from 1100 Pennsylvania Avenue NW, Washington, DC 20506.

SYSTEM NAME AND NUMBER:

Grants, Paper Files/NEA-5.

SECURITY CLASSIFICATION:

Sensitive.

SYSTEM LOCATION:

400 7th Street SW, Washington, DC 20506.

SYSTEM MANAGER(S):

Grants Officer (Director); jacobsn@arts.gov.

AUTHORITY FOR MAINTENANCE OF THE SYSTEM:

National Foundation on the Arts and the Humanities Act of 1965, as amended (20 U.S.C. 951 et seq.).

PURPOSE(S) OF THE SYSTEM:

To supplement the GMS and eGMS with information well suited for maintenance in hard copy form.

CATEGORIES OF INDIVIDUALS COVERED BY THE SYSTEM:

Individuals who have applied to the NEA for financial assistance in the form of grants.

CATEGORIES OF RECORDS IN THE SYSTEM:

Additional information concerning NEA decisions to award grants and cooperative agreements, disburse funds, and close out awards. Materials include applications, award notification letters and any approved amendments, payment requests, correspondence, and final reports.

RECORD SOURCE CATEGORIES:

Data in this system is obtained from individuals covered by the system, as well as from Endowment employees involved in the administration of grants.

ROUTINE USES OF RECORDS MAINTAINED IN THE SYSTEM, INCLUDING CATEGORIES OF USERS AND THE PURPOSES OF SUCH USES:

Data in this system may be used for general administration of the grant and cooperative agreement review and award process, award management including payment and amendment requests, statistical research, and Congressional oversight and analysis of trends. See also the list of General Routine Uses contained in the Preliminary Statement.

POLICIES AND PRACTICES FOR STORAGE OF RECORDS:

Records in this system are maintained in file cabinets.

POLICIES AND PRACTICES FOR RETRIEVAL OF RECORDS:

Records in this system are retrieved by name, application number, or grant number.

POLICIES AND PRACTICES FOR RETENTION AND DISPOSAL OF RECORDS:

The Office of Grants maintains paper files of award made in FY 17 and earlier that are still open, which are retired and destroyed after seven years. When the final descriptive and financial status reports are received and accepted, the grant and cooperative agreement files are retired first to the Federal Records Center, and then to the National Archives and Records Administration. The FY 17 paper award files are scanned to a specific computer system LAN drive that has limited access.

ADMINISTRTIVE, TECHNICAL, AND PHYSICAL SAFEGUARDS:

Files containing records in this system are kept locked during non-working hours.

RECORD ACCESS PROCEDURES:

See 45 CFR part 1159.

CONTESTING RECORDS PROCEDURES:

See 45 CFR part 1159.

NOTIFICATION PROCEDURES:

See 45 CFR part 1159.

EXEMPTIONS PROMULGATED FOR THE SYSTEM:

None.

HISTORY:

Grant, Paper Files System Location change 1100 Pennsylvania Avenue NW, Washington, DC 20506.

SYSTEM NAME AND NUMBER:

Contracts/NEA-6.

SYSTEM CLASSIFICATION:

Sensitive.

SYSTEM LOCATION:

400 7th Street SW, Washington, DC 20506.

SYSTEM MANAGER(S):

Administrative Officer (Director of Administrative Services) and/or Director of Finance gendrong@arts.gov.

AUTHORITY FOR MAINTENANCE OF THE SYSTEM:

National Foundation on the Arts and the Humanities Act of 1965, as amended (20 U.S.C. 9 51 et seq.).

PURPOSE(S) OF THE SYSTEM:

To maintain a record of contracts and cooperative agreements entered into by the Endowment.

CATEGORIES OF INDIVIDUALS COVERED BY THE SYSTEM:

Individuals who have entered into administrative contracts with the Endowment.

CATEGORIES OF RECORDS IN THE SYSTEM:

Relevant information concerning the contract, such as copies of the signed document and requests for payment/invoices.

RECORD SOURCE CATEGORIES:

Data in this system is obtained from individuals covered by the system, as well as from Endowment employees involved in contract development, administration, and execution.

ROUTINE USES OF RECORDS MAINTAINED IN THE SYSTEM, INCLUDING CATEGORIES OF USERS AND THE PURPOSES OF SUCH USES:

Data in this system may be used for General Accounting Office audits and Congressional oversight. See also the list of General Routine Uses contained in the Preliminary Statement.

POLICIES AND PRACTICES FOR STORAGE FOR RECORDS:

The Contracts Office maintains records in this system in an electronic database, word processing files, and file cabinets. The Finance office also maintains paper files in this system in file cabinets.

POLICIES AND PRACTICES RETRIEVAL OF RECORDS:

Database files are retrieved by name or by contract or cooperative agreement number. Word processing files are retrieved by contract or cooperative agreement number. Paper files maintained by the Contracts Office are retrieved by name. Paper files maintained by the Finance Office are retrieved by name, Social Security number, or vendor number.

POLICIES AND PRACTICES FOR RETENTION AND DISPOSAL OF RECORDS:

Database and word processing files are maintained on an indefinite basis for reference purposes. Paper files maintained by the Contracts Office are shipped to the National Archives and Records Administration after the contract or cooperative agreement is physically completed, and they are destroyed six years and three months later. Paper files maintained by the Finance Office are also maintained for six years and three months, and then destroyed.

ADMINISTRATIVE, TECHNICAL, AND PHYSICAL SAFEGUARDS:

Database and word processing files are protected by a password available to Grants and Contracts Office staff. Rooms containing paper files are kept locked during non-working hours.

RECORD ACCESS PROCEDURES:

See 45 CFR part 1159.

CONTESTING RECORD PROCEDURES:

See 45 CFR part 1159.

NOTIFICATION PROCEDURES:

See 45 CFR part 1159.

EXEMPTIONS PROMULGATED THE SYSTEM:

None.

HISTORY:

Contracts replaces Contracts and Cooperative Agreements; System Location changed from 1100 Pennsylvania Avenue NW, Washington, DC 20506.

SYSTEM NAME/NUMBER:

Payroll/Personnel System/NEA-7.

SECURITY CLASSIFICATION:

Sensitive.

SYSTEM LOCATION:

National Endowment for the Arts (NEA), Department of Human Resources. 400 7th Street SW, Washington, DC 20506.

Pursuant to an Interagency Agreement between the NEA and the National Finance Center (“NFC”), a component organization of the United States Department of Agriculture's Office of the Chief Financial Officer, NFC provides NEA with the following services: Payroll processing, payroll account processing, salary payment of processing, receipt and processing of time and attendance data, and other functions necessary to perform these services. NFC provides these services using the Department of Agriculture's payroll systems, which are covered under Department of Agriculture System of Record Notice OPM/GOV-1.

SYSTEM MANAGER(S):

Director of Human Resources; mccordc@arts.gov.

AUTHORITY FOR MAINTENANCE OF THE SYSTEM:

National Foundation on the Arts and the Humanities Act of 1965, as amended (20 U.S.C. 951 et seq.); Federal Personnel Manual and Treasury Fiscal Requirements Manual.

PURPOSE(S) OF THE SYSTEM:

To document the Endowment's personnel processes and to calculate and process payroll.

CATEGORIES OF INDIVIDUALS COVERED BY THE SYSTEM:

Employees of the Endowment.

CATEGORIES OF RECORDS IN THE SYSTEM:

Payroll and personnel information, such as time and attendance data, statements of earnings and leave, training data, wage and tax statements, and payroll and personnel transactions. This system includes some data that may also be maintained in the Endowment's official personnel folders, which are managed in accordance with Office of Personnel Management (OPM) regulations. The OPM has given notice of its system of records covering official personnel folders in OPM/GOVT-1.

RECORD SOURCE CATEGORIES:

Data in this system is obtained from individuals covered by the system, as well as from Endowment employees involved in the administration of personnel and payroll processes.

ROUTINE USES OF RECORDS MAINTAINED IN THE SYSTEM, INCLUDING CATEGORIES OF USERS AND THE PURPOSES OF SUCH USES:

Data in this system may be transmitted to the U.S. Departments of Agriculture and Treasury, and employee-designated financial institutions to effect issuance of paychecks to employees and distributions of pay according to employee directions for authorized purposes. Data in this system may also be used to prepare payroll, meet government recordkeeping and reporting requirements, and retrieve and apply payroll and personnel information as required for agency needs. See also the list of General Routine Uses contained in the Preliminary Statement.

POLICIES AND PRACTICES FOR STORAGE OF RECORDS:

Electronic records in this system are maintained off-site by the Department of Agriculture's National Finance Center (NFC) but can be accessed by individuals in the Office of Human Resources and by timekeepers for each of the Endowment's offices. Records generated through the NFC are maintained by the Office of Human Resources. The Office of Human Resources also maintains paper records of security folders, training folders, and health records in file cabinets. Office timekeepers maintain paper time and attendance records for three years in file cabinets in their offices. Division offices also may use file cabinets to maintain paper records concerning performance reviews and other personnel actions.

POLICIES AND PRACTICES FOR RETRIEVAL OF RECORDS:

Records in this system are retrieved by name, Social Security number, or date of birth.

POLICIES AND PRACTICIES FOR RETENTIVAL AND DISPOSAL OF RECORDS:

The Office of Human Resources maintains paper records in this system in accordance with the General Services Administration's General Records Schedule 2. Division offices may maintain paper records concerning performance reviews and other personnel actions in their divisions for the duration of an individual's employment with the Endowment or another indefinite period.

ADMINSTRATIVE, TECHNICAL, AND PHYSICAL SAFEGUARDS:

NEA limits access to records within this system to authorized personnel whose official duties require such access; namely, Office of Human Resources personnel and senior staff. Access to records in this system is further controlled by password. NEA keeps records in this system in locked file cabinets.

RECORD ACCESS PROCEDURES:

See 45 CFR part 1159.

CONTESTING RECORD PROCEDURES:

See 45 CFR part 1159.

NOTIFICATION PROCEDURES:

See 45 CFR part 1159.

EXEMPTIONS PROMULGATED FOR THE SYSTEM:

None.

HISTORY:

Location changed from 1100 Pennsylvania Avenue NW, Washington, DC 20506.

SYSTEM NAME AND NUMBER:

Government Purchasing Card Holders/NEA-8.

SECURITY CLASSIFICATION:

Sensitive.

SYSTEM LOCATION:

400 7th Street SW, Washington, DC 20506.

SYSTEM MANAGER(S):

Administrative Officer (Director of Administrative Services) and/or Director of Finance; gendrong@arts.gov.

AUTHORITY FOR MAINTENANCE OF THE SYSTEM:

National Foundation on the Arts and the Humanities Act of 1965, as amended (20 U.S.C. 951 et seq.).

PURPOSE(S) OF THE SYSTEM:

To maintain a record of Endowment employees authorized to use government purchasing cards.

CATEGORIES OF INDIVIDUALS COVERED BY THE SYSTEM:

Endowment employees who have been issued credit cards to make official purchases.

CATEGORIES OF RECORDS IN THE SYSTEM:

Name, office, account number, and spending limits.

RECORD SOURCE CATEGORIES:

Data in this system is obtained from individuals covered by the system, as well as from Endowment employees involved in administration and oversight of government purchasing cards.

ROUTINE USES OF RECORDS MAINTAINED IN THE SYSTEM, INCLUDING CATEGORIES OF USERS AND THE PURPOSES OF SUCH USES:

See the list of General Routine Uses contained in the Preliminary Statement.

POLICIES AND PRACTICES FOR STORAGE OF RECORDS:

The Administrative Services Office maintains records in this system in an electronic database and in paper records in file cabinets. The Finance Office maintains additional paper records in this system in file cabinets.

POLICIES AND PRACTICES RETRIEVAL OF RECORDS:

Electronic records in this system are retrieved by name, office, account number, or spending limit. Paper records in this system are retrieved by name or Social Security number.

POLICIES AND PRACTICES RETENTION AND DISPOSAL OF RECORDS:

Records in this system are maintained on an indefinite basis for reference purposes. Records concerning individuals not issued credit cards are destroyed.

ADMINISTRATIVE, TECHNICAL, AND PHYSICAL SAFEGUARDS:

Access to electronic records in this system is controlled by a password, which is available only to the Approving Official. Rooms containing paper records in this system are kept locked during non-working hours.

RECORD ACCESS PROCEDURES:

See 45 CFR part 1159.

CONTESTING RECORD PROCEDURES:

See 45 CFR part 1159.

NOTIFICATION PROCEDURES:

See 45 CFR part 1159.

EXEMPTIONS PROMULGATED FOR THE SYSTEM:

None.

HISTORY:

Government Purchasing Card Holders System Location changed from 1100 Pennsylvania Avenue NW, Washington.

SYSTEM NAME AND NUMBER:

Financial Management Information System/NEA-9 (FMIS), DELPHI (the Department of Transportation's (DOT's) Oracle Federal Financial System made available to the National Endowment for the Arts (NEA) through a cross-servicing agreement with DOT's Enterprise Service Center.

SECURITY CLASSIFICATION:

Sensitive.

SYSTEM LOCATION:

Authorized NEA staff may access DELPHI Oracle Federal Financial System electronically via an online web portal. This system is hosted by the Department of Transportation facility in Oklahoma City, Oklahoma. NEA stores certain supporting documents in hard-copy files with its Finance and Budget Office. DOT provides these services under System of Record Notice DOT/ALL 7.

SYSTEM MANAGER(S):

Accounting Officer (Director of Finance); renh@ats.gov.

AUTHORITY FOR MAINTENANCE OF THE SYSTEM:

National Foundation on the Arts and the Humanities Act of 1965, as amended (20 U.S.C. 951 et seq.).

PURPOSE(S) OF THE SYSTEM:

To promote effective fund control and financial management; to provide a central repository for information about the NEA's financial transactions; and to enable the NEA Budget and Finance offices to share a common system for entering allocation, commitment, and obligation information.

CATEGORIES OF RECORDS IN THE SYSTEM:

Name, address, Social Security number, object class, category code, discipline code, office code, sub-object class code, bank information, Common Accounting Number, Council meeting number, document number, schedule number, tax/employee identification number, vendor number, funding fiscal year, transaction processing dates, and fund type.

CATEGORIES OF INDIVIDUALS COVERED BY THE SYSTEM:

NEA staff employees, grant recipients, vendors, and other individuals involved in financial transactions with the NEA.

RECORD SOURCE CATEGORIES:

Data in this system is obtained from individuals covered by the system and from NEA employees who are involved with the NEA's fund control and financial management.

ROUTINE USES OF RECORDS MAINTAINED IN THE SYSTEM, INCLUDING CATEGORIES OF USERS AND THE PURPOSES OF SUCH USES:

See the list of General Routine Uses contained in the Preliminary Statement. In addition, this system interfaces with the Grants Management System (GMS) (see NEA-4) and extracts data from a magnetic tape containing Payroll/Personnel information generated by the Department of Agriculture's National Finance Center (NFC).

POLICIES AND PRACTICES FOR STORAGE OF RECORDS:

Records in this system are maintained on electronically.

POLICIES AND PRACTICES FOR RETRIEVAL OF RECORDS:

Records in this system are retrieved by name, Social Security number, tax/employee identification number, or vendor number.

POLICIES AND PRACTICES FOR RETENTION AND DISPOSAL OF RECORDS:

Records in this system are maintained on an indefinite basis for reference purposes.

ADMINISTRATIVE, TECHNICAL, AND PHYSICAL SAFEGUARDS:

This system is maintained in a locked computer room that can be accessed only by authorized employees of the NEA and the National Endowment for the Humanities. Access to records in this system is further controlled by password, available to the Budget, Finance, and Information and Technology Management Offices. Different levels of modification rights are assigned to these three offices and NEA employees therein, based on their specific job functions.

RECORD ACCESS PROCEDURES:

See 45 CFR part 1159.

CONTESTING RECORD PROCEDURES:

See 45 CFR part 1159.

NOTIFICATION PROCEDURES:

See 45 CFR part 1159.

EXEMPTIONS PROMULGATED FOR THE SYSTEM:

None.

HISTORY:

Financial Management Information System (FMIS) System Location changed from 1100 Pennsylvania Avenue NW; Washington, DC 20506.

SYSTEM NAME AND NUMBER:

Finance, Subsidiary Tracking Systems/NEA-10.

SECURITY CLASSIFICATION:

Sensitive.

SYSTEM LOCATION:

Finance Office; 400 7th Street SW; Washington, DC 20506. NEA staff may access the E2 Solutions information system electronically via online. This system is sponsored by the U.S. General Services Administration Program Management Office (GSA PMO). GSA provides these services under the System of Records Notice GSA/ GOVT-4.

SYSTEM MANAGER(S):

Accounting Officer (Director of Finance); rerenh@arts.gov.

AUTHORITY FOR MAINTENANCE OF THE SYSTEM:

National Foundation on the Arts and the Humanities Act of 1965, as amended (20 U.S.C. 951 et seq.).

PURPOSE(S) OF THE SYSTEM:

To supplement DELPHI with electronic records that cannot be maintained within that system.

CATEGORIES OF INDIVIDUALS COVERED BY THE SYSTEM:

Grant recipients, Endowment employees, vendors, and other individuals involved in financial transactions with the Endowment.

CATEGORIES OF RECORDS IN THE SYSTEM:

(1) Files contain payment information for processing all payments.

(2) The Travel Authorizations Files contain employee expense data from travel duty. The GSA has given notice of its system of records covering the official travel files GSA/GOVT-4.

(3) The Travel Voucher Files containing employee expense data from travel duty. The GSA has given notice of its system of records covering travel service providers GSA/GOVT-4.

RECORD SOURCE CATEGORIES:

Data in this system is obtained from individuals covered by the system and from Endowment employees who are involved with the management of these subsidiary tracking systems.

ROUTINE USES OF RECORDS MAINTAINED IN THE SYSTEM, INCLUDING CATEGORIES OF USERS AND THE PURPOSES OF SUCH USES:

See the list of General Routine Uses contained in the Preliminary Statement.

POLICIES AND PRACTICES FOR STORAGE OF RECORDS:

Records in this system are maintained in electronic databases.

POLICIES AND PRACTICES FOR RETRIEVAL OF RECORDS:

Records in the Secure Payment System (SPS) are retrieved by name, Social Security number, taxpayer identification number, or supplier number.

POLICIES AND PRACTICES FOR RETENTION AND DISPOSAL OF RECORDS:

Records in this system are maintained on an indefinite basis for reference purposes.

ADMINISTRATIVE, TECHNICAL, AND PHYSICAL SAFEGUARDS:

Access to records in this system is controlled by password.

RECORD ACCESS PROCEDURES:

See 45 CFR part 1159.

CONTESTING RECORD PROCEDURES:

See 45 CFR part 1159.

NOTIFICATION PROCEDURES:

See 45 CFR part 1159.

EXEMPTIONS PROMULGATED FOR THE SYSTEM:

None.

HISTORY:

Finance, Subsidiary Tracking System Location changed from 1100 Pennsylvania Avenue NW; Washington, DC 20506.

SYSTEM NAME AND NUMBER:

Finance, Paper Files/NEA-11.

SECURITY CLASSFICATION:

Sensitive.

SYSTEM LOCATION:

Finance Office; 400 7th Street SW; Washington, DC 20506.

SYSTEM MANAGER(S):

Accounting Officer (Director of Finance); renh@arts.gov.

AUTHORITY FOR MAINTENANCE OF THE SYSTEM:

National Foundation on the Arts and the Humanities Act of 1965, as amended (20 U.S.C. 951 seq). In addition, the maintenance of debt collection records in the Accounts Receivables Files is authorized by the Debt Collection Act of 1982, Public Law 97-365; the Cash Management Improvement Act Amendments of 1992; and the Debt Collection Improvement Act of 1996 (Pub. L. I 04-134).

PURPOSE(S) OF THE SYSTEM:

To supplement DELPHI with information well suited for maintenance in hard copy form.

CATEGORIES OF INDIVIDUALS COVERED BY THE SYSTEM:

Grant recipients, Endowment employees, vendors, and other individuals involved in financial transactions with the Endowment.

CATEGORIES OF RECORDS IN THE SYSTEM:

(1) The Accounts Receivables Files contain data concerning the type and amount of debts owed to the Endowment, as well as debt collection efforts. These files contain, as appropriate, the name and address of the debtor; taxpayer's identification number; basis of the debt; date a debt became delinquent; amounts accrued for interest, penalties, administrative costs, and payment on account; date the debt was referred to the Treasury for offset; and basis for termination of debt. These files also include copies of bills for collection; invoices; correspondence between the Endowment and the debtor relating to the debt; and documents required to refer accounts to the Treasury, other Federal agencies, or private collection contractor for debt collection.

(2) The Donations to Gift Fund Files contain copies of checks and letters submitted by donors.

(3) The 1099 Files contain data concerning expenses over $600 per calendar year that are reported to the Internal Revenue Service.

(4) The Travel Credit Cards Files contain applications for credit cards and credit score reports. The GSA has given notice of its system of records covering the official Travel Charge Card Program GSA/GOVT-3.

(5) The Star Awards Files contain data concerning awards for Endowment employees.

RECORD SOURCE CATEGORIES:

Data in this system is obtained from individuals covered by the system, Endowment employees, creditor agencies, collection agencies, credit bureaus, Federal employing agencies, and other Federal agencies furnishing identifying information.

ROUTINE USES OF RECORDS MAINTAINED IN THE SYSTEM, INCLUDING CATEGORIES OF USERS AND THE PURPOSES OF SUCH USES:

See the list of General Routine Uses contained in the Preliminary Statement.

POLICIES AND PRACTICES FOR STORAGE OF RECORDS:

Records in this system are maintained in file cabinets.

POLICIES AND PRACTICES FOR RETRIEVAL OF RECORDS:

Records in this system are retrieved by name; Social Security number; taxpayer identification number; or contract number of the employee, contractor, or grantee.

POLICIES AND PRACTICES FOR RETENTION AND DISPOSAL OF RECORDS:

The retention and disposal of debt collection records in the Accounts Receivables Files are covered by the General Services Administration's General Records Schedule 6. Other records in this system are retained on site or in storage for six years and three months, and then destroyed.

ADMINISTRATIVE, TECHNICAL, AND PHYSICAL SAFEGUARDS:

Rooms containing the records in this system are kept locked during non-working hours.

RECORD ACCESS PROCEDURES:

See 45 CFR part 1159.

CONTESTING RECORD PROCEDURES:

See 45 CFR part 1159.

NOTIFICATION PROCEDURES:

See 45 CFR part 1159.

EXEMPTIONS PROMULGATED FOR THE SYSTEM:

None.

HISTORY:

Finance, Paper Files System Location changed from 1100 Pennsylvania Avenue NW; Washington, DC 20506.

SYSTEM NAME AND NUMBER:

Equal Employment Opportunity Complaint Case Files/NEA-12.

SECURITY CLASSIFICATION:

Sensitive.

SYSTEM LOCATION:

Office of Equal Employment Opportunity/Civil Rights; 400 7th Street SW; Washington, DC 20506.

SYSTEM MANAGER(S):

Acting Director of Civil Rights; medinaa@arts.gov.

AUTHORITY FOR MAINTENANCE OF THE SYSTEM:

National Foundation on the Arts and the Humanities Act of 1965, as amended (20 U.S.C. 951 et seq.).

PURPOSE(S) OF THE SYSTEM:

To enable the Endowment to investigate and adjudicate internal complaints of discrimination.

CATEGORIES OF INDIVIDUALS COVERED BY THE SYSTEM:

Endowment employees and applicants for employment at the Endowment who have filed formal complaints of discrimination against the Endowment.

CATEGORIES OF RECORDS IN THE SYSTEM:

Relevant information concerning the complaint of discrimination, such as correspondence and documentation concerning the filing of the complaint and stages leading to its disposition.

ROUTINE USES OF RECORDS MAINTAINED IN THE SYSTEM, INCLUDING CATEGORIES OF USERS AND THE PURPOSES OF SUCH USES:

Data in this system may be disclosed as necessary to enforce or implement the statute, rule, regulation, or order under which the charge of discrimination has been filed. This authorization includes disclosures of data to a Federal, state, or local agency charged with the responsibility of investigating, enforcing, or implementing such a statute, rule, regulation, or order. See also the list of General Routine Uses contained in the Preliminary Statement.

POLICIES AND PRACTICES FOR STORAGE OF RECORDS:

Records in this system are maintained on computer servers and in file cabinets.

POLICIES AND PRACTICES FOR RETRIEVAL OF RECORDS:

Records in this system are retrieved by name.

POLICIES AND PRACTICES FOR RETENTION AND DISPOSAL OF RECORDS:

Complaint files are destroyed four years after resolution of the case.

ADMINISTRATIVE, TECHNICAL, AND PHYSICAL SAFEGUARDS:

EEO files on computer servers are limited in access to NEA EEO personnel only. Paper files are kept in a locked file cabinet.

RECORD ACCESS PROCEDURES:

See 45 CFR part 1159.

CONTESTING RECORD PROCEDURES:

See 45 CFR part 1159.

NOTIFICATION PROCEDURES:

See 45 CFR part 1159.

EXEMPTIONS PROMULGAGED FOR THE SYSTEM:

None.

HISTORY:

Equal Employment Opportunity Complaint Case Files System Location change 1100 Pennsylvania Avenue NW; Washington, DC 20506.

SYSTEM NAME AND NUMBER:

Civil Rights Complaint Case Files/Nea-13.

SYSTEM CLASSIFICATION:

Sensitive.

SYSTEM LOCATION:

Office of Equal Employment Opportunity/Office of Civil Rights; 400 7th Street SW; Washington, DC 20506.

SYSTEM MANAGER(S):

Acting Director of Civil Rights; medinaa@arts.gov.

AUTHORITY FOR MAINTENANCE OF THE SYSTEM:

National Foundation on the Arts and the Humanities Act of 1965, as amended (20 U.S.C. 951 et seq.).

PURPOSE(S) OF THE SYSTEM:

To enable the Endowment to investigate and adjudicate external complaints of discrimination.

CATEGORIES OF INDIVIDUALS COVERED BY THE SYSTEM:

Individuals who have filed formal complaints of discrimination against the Endowment. However, this system does not include complaints made by either Endowment employees or applicants for employment at the Endowment.

CATEGORIES OF RECORDS IN THE SYSTEM:

Relevant information concerning the complaint of discrimination, including correspondence and documentation concerning the filing of the complaint and stages leading to its disposition.

RECORD SOURCE CATEGORIES:

Data in this system is obtained from individuals covered by the system and from Endowment employees who are involved with the claim or proceeding.

ROUTINE USES OF RECORDS MAINTAINED IN THE SYSTEM, INCLUDING CATEGORIES OF USERS AND THE PURPOSES OF SUCH USES:

Data in this system may be disclosed as necessary to enforce or implement the statute, rule, regulation or order under which the charge of discrimination has been filed. This authorization includes disclosures of data to a federal, state, or local agency charged with the responsibility of investigating, enforcing, or implementing such a statute, rule, regulation, or order. See also the list of General Routing Uses contained in the Preliminary Statement.

POLICIES AND PRACTICES FOR STORAGE OF RECORDS:

Records in this system are maintained on computer servers and in file cabinets.

POLICIES AND PRACTICES FOR RETRIEVAL OF RECORDS:

Records in this system are retrieved by name or a control number assigned to each external complaint of discrimination.

POLICIES AND PRACTICES FOR RETENTION AND DISPOSAL OF RECORDS:

Complaint files are destroyed four years after resolution of the case.

ADMINISTRATIVE, TECHNICAL, AND PHYSICAL SAFEGUARDS:

Civil rights files on computer servers are limited in access to NEA Civil Rights personnel only. Paper files are kept in a locked file cabinet.

RECORD ACCESS PROCEDURES:

See 45 CFR part 1159.

CONTESTING RECORD PROCEDURES:

See 45 CFR part 1159.

NOTIFICATION PROCEDURES:

See 45 CFR part 1159.

EXEMPTIONS PROMULGATED FOR THE SYSTEM:

None.

HISTORY:

Civil Rights Complaint Case Files System Location change 1100 Pennsylvania Avenue NW; Washington.

SYSTEM NAME AND NUMBER:

Office of the Inspector General Investigative Case Files/NEA-14.

SYSTEM CLASSIFICATION:

Sensitive.

SYSTEM LOCATION:

Office of the Inspector General; 400 7th Street SW; Washington, DC 20506.

SYSTEM MANAGER(S):

Inspector General; stithr@arts.gov.

AUTHORITY FOR MAINTENANCE OF THE SYSTEM:

Inspector General Act of 1978, as amended (5 U.S.C. app. 3).

PURPOSE(S):

To maintain files of investigative and reporting activities carried out by the Office of the Inspector General.

PURPOSE(S) OF THE SYSTEM:

To maintain files of investigative and reporting activities carried out by the Office of the Inspector General.

CATEGORIES OF INDIVIDUALS COVERED BY THE SYSTEM:

Individuals and entities who are or have been the subject of investigations by the Office of the Inspector General, or who provide information in connection with such investigations. These individuals include, but are not limited to, former and present Endowment employees; former and present Endowment grant recipients; former and present contractors and subcontractors, and their employees; former and present consultants; and other individuals and entities that had, have, or are seeking to obtain business relationships with the Endowment.

CATEGORIES OF RECORDS IN THE SYSTEM:

Correspondence relevant to the investigation; working papers of the staff, investigative notes, internal staff memoranda, and other documents and records relating to the investigation; information about criminal, civil, or administrative referrals; information provided by subjects of the investigation, individuals with whom the subjects are associated, complainants, or witnesses; information provided by Federal, State, or local governmental investigative or law enforcement agencies, or other organizations; copies of subpoenas issued during the investigation; and opening reports, progress reports, and closing reports, with recommendations for corrective action.

RECORD SOURCE CATEGORIES:

Data in this system is obtained from individuals who are covered by the system, as well as from individuals with whom the subjects are associated; Federal, State, or local governmental investigative or law enforcement agencies; and other organizations.

ROUTINE USES OF RECORDS MAINTAINED IN THE SYSTEM, INCLUDING CATEGORIES OF USERS AND THE PURPOSES OF SUCH USES:

Data in this system may be disclosed to any source, either private or governmental, to the extent necessary to secure from such source information relevant to, and sought in furtherance of, a legitimate investigation or audit. Data in this system may also be disclosed to the Office of the Inspector General's or the Endowment's legal representative, including the U.S. Department of Justice and other outside legal counsel, when the Office of the Inspector General or the Endowment is a party in actual or anticipated litigation or has an interest in such litigation.

See also the list of General Routine Uses contained in the Preliminary Statement.

POLICIES AND PRACTICES FOR STORAGE OF RECORDS:

Records in this system are maintained in file cabinets.

POLICIES AND PRACTICES FOR RETRIEVAL OF RECORDS:

Records in this system are retrieved by name, report number, or chronological ordering.

POLICIES AND PRACTICES FOR RETENTION AND DISPOSAL OF RECORDS:

Records in this system are maintained on-site until eligible for destruction. Work papers used in evaluating grantees' audit reports and financial statements are destroyed on a three-year cycle, or until eligible for destruction. Work papers and correspondence prepared and/or obtained during the clearance process of audit recommendations are destroyed on a six-year cycle from the date that the recommendations are cleared. All other records in this system are destroyed on a seven-year cycle.

ADMINISTRATIVE, TECHNICAL, AND PHYSICAL SAFEGUARDS:

Work papers for allegation and other investigative reviews conducted by or for the Office of the Inspector General are kept in a locked file cabinet. All records in this system are kept in rooms that are locked during non-working hours and are accessible to the Inspector General only.

RECORD ACCESS PROCEDURES:

The major part of this system is exempted from this requirement pursuant to 5 U.S.C. 552a(j)(2) or (k)(2). To the extent that this system is not subject to exemption, it is subject to access. A determination as to exemption shall be made at the time a request for access is received. Access requests must be sent to the Office of the General Counsel in accordance with the procedures published at 45 CFR part 1159.

CONTESTING RECORD PROCEDURES:

The major part of this system is exempted from this requirement pursuant to 5 U.S.C. 552a(j)(2) or (k)(2). To the extent that this system is not subject to exemption, it is subject to access and contest. A determination as to exemption shall be made at the time a request for access is received. Access requests must be sent to the Office of the General Counsel in accordance with the procedures published at 45 CFR part 1159.

NOTIFICATION PROCEDURES:

See 45 CFR part 1159.

EXEMPTIONS PROMULAGED FOR THE SYSTEM:

This system is exempted from 5 U.S.C. 552a except subsections (b); (c)(l) and (2); (e)(4)(A) through (F); (e)(6), (7), (9), (10), and (11); and (i) under 552a(i)(2) to the extent that the system pertains to enforcement of criminal laws. This system is exempted from 5 U.S.C. 552a(c)(3); (d); (e)(l); (e)(4)(G), (H), and (I); and (f) under 5 U.S.C. 552a(k)(2) to the extent that the system consists of investigatory material compiled for law enforcement purposes, other than material within the scope of the exemption at 5 U.S.C. 552a(j)(2). These exemptions are contained in 45 CFR part 1159.

HISTORY:

Office of the Inspector General Investigative Files System Location changed from 1100 Pennsylvania Avenue NW; Washington, DC 20506.

SYSTEM NAME AND NUMBER:

Senate Nomination Files—National Council on the Arts/NEA-15.

SECURITY CLASSIFICATION:

Sensitive.

SYSTEM LOCATION:

Office of General Counsel; 400 7th Street SW; Washington, DC 20506.

SYSTEM MANAGER(S):

Designated Agency Ethics Officer; zachariaha@arts.gov.

AUTHORITY FOR MAINTENANCE OF THE SYSTEM:

National Foundation on the Arts and the Humanities Act of 1965, as amended (20 U.S.C. 951 et seq.) 5 CFR 2634.901 et seq.

PURPOSE(S) OF THE SYSTEM:

To maintain a record of the members of the NCA's financial disclosure reports upon nomination.

CATEGORIES OF INDIVIDUALS COVERED BY THE SYSTEM:

Members of the National Council on the Arts (NCA).

CATEGORIES OF RECORDS IN THE SYSTEM:

Confidential Financial Disclosure Reports (SF-450), and clearance letters to the U.S. Senate for nominees to the NCA.

RECORD SOURCE CATEGORIES:

Data in this system is obtained from individuals covered by the system.

POLICIES AND PRACTICES FOR STORAGE OF RECORDS:

Records are kept electronically as well as in hard copy that are locked in file cabinets.

POLICIES AND PRACTICES FOR RETRIEVAL OF RECORDS:

Records are kept electronically as well as in hard copy that are locked in file cabinets.

POLICIES AND PRACTICES FOR RETENTION AND DISPOSAL OF RECORDS:

Records are destroy(ed) 6 years after receipt of the OGE Form 450 by the agency, except when the OGE Form 450 supports one or more subsequent Optional OGE Form 450-As then destroy 6 years after receipt of the last related OGE Form 450-A by the agency, or when no longer needed for active investigation, whichever is later. This disposition instruction is mandatory; deviations are not allowed.

ADMINISTRATIVE, TECHNICAL, AND PHYSICAL SAFEGUARDS:

This system is maintained in a locked file cabinet within an office that is locked during nonbusiness hours.

RECORD ACCESS PROCEDURES:

See 45 CFR part 1159.

CONTESTING RECORD PROCEDURES:

See 45 CFR part 1159.

NOTIFICATION PROCEDURES:

See 45 CFR part 1159.

EXEMPTIONS PROMULGAGED FOR THE SYSTEM:

None.

HISTORY:

Office of the Inspector General Investigative Files System Location changed from 1100 Pennsylvania Avenue NW, Washington, DC 20506.

SYSTEM NAME AND NUMBER:

Jazz Masters Recipients/NEA-16.

SYSTEM CLASSIFICATION:

Sensitive.

SYSTEM LOCATION:

Performing Arts Division, 400 7th Street SW, Washington, DC 20506.

SYSTEM MANAGER(S):

Division Coordinator; Performing Arts Division; medinaa@arts.gov.

AUTHORITY FOR MAINTENANCE OF THE SYSTEM:

National Foundation on the Arts and the Humanities Act of 1965, as amended (20 U.S.C. 951 et seq.).

PURPOSE(S) OF THE SYSTEM:

To create a central repository for information about individuals who have been nominated to receive a NEA Jazz Masters Fellowship award and to create a record of NEA Jazz Masters Fellowship recipients.

CATEGORIES OF INDIVIDUALS COVERED BY THE SYSTEM:

Individuals nominated to receive a NEA Jazz Masters award from the Endowment and recipients of the award.

CATEGORIES OF RECORDS IN THE SYSTEM:

Name, address, telephone number, email, biographical information.

RECORD SOURCE CATEGORIES:

Data in this system is obtained from individuals covered by the system.

ROUTINE USES OF RECORDS MAINTAINED IN THE SYSTEM, INCLUDING CATEGORIES OF USERS AND PURPOSES OF SUCH USES:

Information in this system is used to compile nominee packages for review by a panel in selecting the recipients of the NEA Jazz Masters Fellowship award.

POLICIES AND PRACTICES FOR STORAGE OF RECORDS:

All records in this system are maintained in paper format in file cabinets and in electronic form in a Database. Accessible only to division staff.

POLICIES AND PRACTICES RETRIEVAL OF RECORDS:

Records in this system are retrieved by name of nominee or by name of recipient.

POLICIES AND PRACTICES FOR RETENTION AND DISPOSAL OF RECORDS:

Records pertaining to nominees are maintained for five years. After five years have passed, nominee records are shredded. Records pertaining to recipients are maintained permanently at the Endowment.

ADMINISTRATIVE, TECHNICAL, AND PHYSICAL SAFEGUARDS:

Records in this system are maintained in a locked file cabinet located within an office that is kept locked during non-business hours. Electronic records in this system are accessible only to division staff.

RECORD ACCESS PROCEDURES:

See 45 CFR part 1159.

CONTESTING RECORD PROCEDURES:

See 45 CFR part 1159.

NOTIFICATION PROCEDURES:

See 45 CFR part 1159.

EXEMPTIONS PROMULGATED FOR THE SYSTEM:

None.

HISTORY:

Jazz Masters Recipients System Location changed from 1100 Pennsylvania Avenue NW, Washington, DC 20506.

SYSTEM NAME AND NAME:

National Heritage Fellowship Recipients/NEA-17.

SECURITY CLASSIFICATION:

Sensitive.

SYSTEM LOCATION:

Multidisciplinary Division, 400 7th Street SW, Washington, DC 20506.

SYSTEM MANAGER(S):

Division Coordinator; murphyc@arts.gov.

AUTHORITY FOR MAINTENANCE OF THE SYSTEM:

National Foundation on the Arts and the Humanities Act of 1965, as amended (20 U.S.C. 951 et seq.).

PURPOSE(S) OF THE SYSTEM:

To create a central repository for information about individuals who have been nominated to receive a National Heritage Fellowship and to create a record of National Heritage Fellowship recipients.

CATEGORIES OF INDIVIDUALS COVERED BY THE SYSTEM:

Individuals nominated to receive a National Heritage Fellowship from the Endowment and recipients of the fellowship.

CATEGORIES OF RECORDS IN THE SYSTEM:

Name, address, telephone number, email, biographical information.

RECORD SOURCE CATEGORIES:

Data in this system is obtained from individuals covered by the system.

ROUTINE USES OF RECORDS MAINTAINED IN THE SYSTEM, INCLUDING, CATEGORIES OF USERS AND PURPOSES OF SUCH USES:

Information in this system is used to compile nominee packages for review by a panel in selecting the recipients of National Heritage Fellowships.

POLICIES AND PRACTICES FOR STORAGE OF RECORDS:

All records in this system are maintained in paper format in locked file cabinets and in electronic form in a database accessible only to division staff.

POLICIES AND PRACTICES FOR RETRIEVAL OF RECORDS:

Records in this system are retrieved by name of nominee or by name of recipient.

POLICIES AND PRACTICES RETENTION AND DISPOSAL OF RECORDS:

Records pertaining to nominees are maintained for five years. After five years have passed, nominee records are shredded. Records pertaining to recipients are maintained permanently at the Endowment.

ADMINISTRATIVE, TECHNICAL, AND PHYSICAL SAFEGUARDS:

Papers in this system are maintained in a locked file cabinet located within an office that is kept locked during non-business hours. Electronic records in this system are password protected and accessible only to division staff.

RECORD ACCESS PROCEDURES:

See 45 CFR part 1159.

CONTESTING RECORD PROCEDURES:

See 45 CFR part 1159.

NOTIFICATION PROCEDURES:

See 45 CFR part 1159.

EXEMPTIONS PROMULGATED FOR THE SYSTEM:

None.

HISTORY:

National Heritage Fellowship Recipients System Location changed from 1100 Pennsylvania Avenue NW, Washington, DC 20506.

SYSTEM NAME AND NUMBER:

Literature Fellowship Recipients/NEA-18.

SECURITY CLASSIFIED:

Sensitive.

SYSTEM LOCATION:

Literature Division; 400 7th Street SW, Washington, DC 20506.

SYSTEM MANAGER(S):

Literature Director, stollsa@arts.gov.

AUTHORITY FOR MAINTENANCE OF THE SYSTEM:

National Foundation on the Arts and the Humanities Act of 1965, as amended (20 U.S.C. 951 et seq.).

PURPOSE(S) OF THE SYSTEM:

To create a central repository for information about individuals who have been nominated to receive a Literature Fellowship and to create a record of Literature Fellowship recipients.

CATEGORIES OF INDIVIDUALS COVERED BY THE SYSTEM:

Individual applicants for a Literature Fellowship from the Endowment and recipients of the fellowship.

CATEGORIES OF RECORDS IN THE SYSTEM:

Name, address, telephone number, email address, biographical information.

RECORD SOURCE CATEGORIES:

Data in this system is obtained from individuals covered by the system.

ROUTINE USES OF RECORDS MAINTAINED IN THE SYSTEM, INCLUDING CATEGORIES OF USERS AND PURPOSES OF SUCH USES:

Information in this system is used to compile nominee packages for review by a panel in selecting the recipients of Literature Fellowships.

POLICIES AND PRACTICES FOR STORAGE OF RECORDS:

All records in this system are maintained in electronic format in the Electronic Grants Management System (eGMS).

POLICIES AND PRACTICES FOR RETRIEVAL OF RECORDS:

Records in this system are retrieved by name of recipient or by application number.

POLICIES AND PRACTICES FOR RETENTION AND DISPOSAL OF RECORDS:

Records pertaining to unsuccessful applicants are kept in eGMS permanently. Records pertaining to award recipients are maintained permanently at the Endowment.

ADMINISTRATIVE, TECHNICAL, AND PHYISCAL SAFEGUARDS:

Records in this system are maintained in eGMS, a secure system accessed only by NEA staff PIV card.

RECORD ACCESS PROCEDURES:

See 45 CFR part 1159.

CONTESTING RECORD PROCEDURES:

See 45 CFR part 1159

NOTIFICATION PROCEDURES:

See 45 CFR part 1159

EXEMPTIONS PROMULGATED FOR THE SYSTEM:

None.

HISTORY:

Literature Fellowship Recipients System Location changed from 1100 Pennsylvania Avenue NW, Washington, DC 20506.

Dated: January 11, 2021.
Anthony M. Bennett,
Director of Administrative Services.

[FR Doc. 2021-02879 Filed 2-11-21; 8:45 am]

BILLING CODE 7537-01-P